DEPARTMENT OF THE INTERIOR

Minerals Management Service

Agency Information Collection Activities: Submitted for Office of Management and Budget (OMB) Review; Comment Request

AGENCY: Minerals Management Service (MMS), Interior.

ACTION: Notice of extension of a currently approved information collection (OMB control number 1010-0067).

SUMMARY: To comply with the Paperwork Reduction Act of 1995 (PRA), we are submitting to OMB for review and approval an information collection request (ICR), titled “30 CFR 250, Subpart E, Oil and Gas Well-Completion Operations.” We are also soliciting comments from the public on this ICR.

DATES: Submit written comments by August 24, 2000.

ADDRESSES: You may submit comments directly to the Office of Information and Regulatory Affairs, OMB, Attention: Desk Officer for the Department of the Interior (1010-0067), 725 17th Street, N.W., Washington, D.C. 20503. Mail or hand carry a copy of your comments to the Department of the Interior; Minerals Management Service; Attention: Rules Processing Team; Mail Stop 4024; 381 Elden Street; Herndon, Virginia 20170-4817.

Our practice is to make comments, including names and home addresses of respondents, available for public review during regular business hours. Individual respondents may request that we withhold their home address from the record, which we will honor to the extent allowable by law. There may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy of the collection of information at no cost.

SUPPLEMENTARY INFORMATION: Title: 30 CFR 250, Subpart E, Oil and Gas Well-Completion Operations

OMB Control Number: 1010-0067.

Abstract: The Outer Continental Shelf (OCS) Lands Act, 43 U.S.C. 1331 et seq., requires the Secretary of the Interior to preserve, protect, and develop oil and gas resources in the OCS in a manner that is consistent with the need to make such resources available to meet the Nation's energy needs as rapidly as possible; balance orderly energy resources development with protection of the human, marine, and coastal environment; ensure the public a fair and equitable return on OCS resources; and preserve and maintain free enterprise competition. Section 1332(6) of the OCS Lands Act (43 U.S.C. 1332) requires that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.” This authority and responsibility are among those delegated to the Minerals Management Service (MMS).

The MMS district supervisors analyze and evaluate the information and data collected under subpart E to ensure that planned well-completion operations will protect personnel safety and natural resources. They use the analysis and evaluation results in the decision to approve, disapprove, or require modification to the proposed well-completion operations. Specifically, MMS uses the information to ensure: (a) Compliance with personnel safety training requirements; (b) crown block safety device is operating and can be expected to function to avoid accidents; (c) proposed operation of the annular preventer is technically correct and provides adequate protection for personnel, property, and natural resources; (d) well-completion operations are conducted on well casings that are structurally competent; and (e) sustained casing pressures are within acceptable limits.

We protect proprietary information that is submitted according to the Freedom of Information Act (5 U.S.C. 552), and its implementing regulations (43 CFR 2), and 30 CFR 250.196. No items of a sensitive nature are collected. Responses are mandatory.

We published a Federal Register notice with the required 60-day comment period on April 17, 2000 (65 FR 20485). We received no comments in response to that notice.

Frequency: The frequency of reporting varies according to requirement (see following burden chart).

Estimated Number and Description of Respondents: Approximately 130 Federal OCS oil, gas, and sulphur lessees.

Estimated Annual Reporting and Recordkeeping “Hour” Burden: 5,672 hours (see following burden chart).

Estimated Annual Recordkeeping “Non-Hour Cost” Burden: We have identified no non-hour cost burdens associated with this collection of information.

Burden Breakdown
Citation 30 CFR 250 Subpart E | Reporting & recordkeeping requirement (frequency) | Number | Burden (hours) | Annual burden hours
502 | Request approval not to shut in well during equipment movement (on occasion) | 13 requests | 131 | 13
502 (MMS condition of approval) | Notify MMS of well-completion rig movement on or off platform or from well to well on same platform (on occasion) | 560 notices | .1 | 56
505; 513; 515(a); 516(g), (j) | Submit forms MMS-123, MMS-124, MMS-125 for various approvals | Burden included in 1010-0044, 1010-0045, 1010-0046. |  | 0
512 | Request field well-completion rules be established and canceled (on occasion; however, there have been no requests in many years) | 2 requests | 1 | 2
515(a) | Submit well-control procedures (on occasion) | 15 submissions | 1 | 15
517(b) | Pressure test, caliper, or otherwise evaluate tubing & wellhead equipment casing; submit results (every 30 days during prolonged operations) | 20 reports | 4 | 80
517(c) | Notify MMS if sustained casing pressure is observed on a well (on occasion) | 1,355 notices | .25 | 339 (rounded)
Reporting subtotal |  | 1,965 Responses |  | 505
506 | Instruct crew members in safety requirements of operations to be performed; document meeting (weekly for 2 crews × 2 weeks per completion = 4) | 570 completions × 4 = 2,280 | .16 | 365 (rounded)
511 | Perform operational check of traveling-block safety device; document results (weekly × 2 weeks per completion = 2) | 575 completions × 2 = 1,150 | .1 | 115
516 tests; 516(i) | Perform BOP pressure tests, actuations & inspections; record results; retain records 2 years following completion of well (when installed; minimum every 14 days; as stated for component) | 575 completions | 6 | 3,450
516(d)(5) test; 516(i) | Function test annulars and rams; document results (every 7 days between BOP tests—biweekly; note: part of BOP test when conducted) | 575 completions | .16 | 92
516(e) | Record reason for postponing BOP system tests (on occasion) | 45 postponed tests | .1 | 5 (rounded)
516(f) | Perform crew drills; record results (weekly for 2 crews × 2 weeks per completion = 4) | 570 completions × 4 = 2,280 | .5 | 1,140
Recordkeeping subtotal |  | 130 Recordkeepers (RKs) |  | 5,167
Total hour burden |  | 2,095 Responses/RKs |  | 5,672

Comments: The PRA (44 U.S.C. 3501, et seq.) provides that an agency may not conduct or sponsor, and a person is not required to respond to, a collection of information unless it displays a currently valid OMB control number. Section 3506(c)(2)(A) of the PRA requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

If you wish to comment in response to this notice, send your comments directly to the offices listed under the ADDRESSES section of this notice. The OMB has up to 60 days to approve or disapprove the information collection but may respond after 30 days. Therefore, to ensure maximum consideration, OMB should receive public comments by August 24, 2000.

MMS Information Collection Clearance Officer: Jo Ann Lauterbach, (202) 208-7744).

Dated: July 5, 2000.
E.P. Danenberger,
Chief, Engineering and Operations Division.

[FR Doc. 00-18803 Filed 7-24-00; 8:45 am]

BILLING CODE 4310-MR-P